NATIONAL AERONAUTICS AND SPACE ADMINISTRATION

14 CFR Part 1204

[Document Number NASA-21-015; Docket Number-NASA-2021-0003]

RIN 2700-AE62

NASA Guidance Procedures; Removal

AGENCY: National Aeronautics and Space Administration.

ACTION: Final rule.

SUMMARY: This final rule removes information about NASA's processes and procedures for issuing guidance documents because requirements to publish this information were revoked.

DATES: Effective: August 9, 2021.

FOR FURTHER INFORMATION CONTACT: Nanette Smith, Team Lead, NASA Directives and Regulations Management, Mission Support Directorate, (202) 358-0819, nanette.jennings@nasa.gov.

SUPPLEMENTARY INFORMATION:

I. Background

Executive Order 13891, Promoting the Rule of Law Through Improved Agency Guidance Documents, issued October 9, 2019, required agencies to finalize regulations to set forth processes and procedures for issuing guidance documents. To respond to this action, NASA issued its Guidance Procedures, 14 CFR part 1204 subpart 3, that published on March 24, 2020, at 85 FR 16542.

On January 20, 2021, Executive Order 13992, Revocation of Certain Executive Orders Concerning Federal Regulation, was issued to revoke several regulatory policies, including Executive Order 13891. Therefore, NASA is removing 14 CFR part 1204 subpart 3, NASA Guidance Documents, to comply with Executive Order 13992.

II. Regulatory Analysis

Executive Order 12866—Regulatory Planning and Review and Executive Order 13563—Improving Regulation and Regulatory Review

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility. This rule is not a significant regulatory action under Executive Order 12866.

Executive Order 13132—Federalism

Executive Order 13132 requires agencies to ensure meaningful and timely input by state and local officials in the development of regulatory policies that may have a substantial, direct effect on the states, on the relationship between the National Government and the states, or on the distribution of power and responsibilities among the various levels of government. This action has been analyzed in accordance with the principles and criteria contained in the order, and NASA has determined that this action will not have a substantial direct effect or federalism implications on the states and would not preempt any state law or regulation or affect the states' ability to discharge traditional state governmental functions. Therefore, consultation with the states is not necessary.

Executive Order 13175—Consultation and Coordination With Indian Tribal Governments

This final rule has been analyzed in accordance with the principles and criteria contained in Executive Order 13175. NASA has determined that this removal of Subpart 1204.3 does not significantly or uniquely affect the communities of the Indian tribal governments or impose substantial direct compliance costs on them, the funding and consultation requirements of Executive Order 13175 does not apply.

Regulatory Flexibility Act

It has been certified that removal of Subpart 1204.3 is not subject to the Regulatory Flexibility Act (5 U.S.C. 601) because it does not have a significant economic impact on a substantial number of small entities.

Administrative Procedure Act

This final rule responds to Executive Order 13992 that requires agencies to remove the CFR regulations that set forth processes and procedures for issuing guidance documents. Therefore, in accordance with 5 U.S.C. 553, the Administrator of NASA has concluded that there is good cause to publish this rule without prior opportunity for public comment because the action is of Agency organization, procedure, or practice. See 5 U.S.C 553(b)(3)(A).

Statutory Authority

Part 1204 is established under the National Aeronautics and Space Act (Space Act). In accordance with 51 U.S.C. 20113(a), “In the performance of its functions, the Administration is authorized to make, promulgate, issue, rescind, and amend rules and regulations governing the manner of its operations and the exercise of the powers vested in it by law.”

Paperwork Reduction Act

This rule does not contain an information collection requirement subject to the Paperwork Reduction Act of 1995 (44 U.S.C. 3501 et seq.).

Unfunded Mandates Reform Act of 1995

This rule will not result in the expenditure by state, local, and tribal governments, in the aggregate, or by the private sector, of $100,000,000 or more in any one year, and it will not significantly or uniquely affect small governments.

List of Subjects in 14 CFR Part 1204

Administrative practice and procedure.

Accordingly, 14 CFR part 1204 is amended as follows:

PART 1204—ADMINISTRATIVE AUTHORITY AND POLICY

Subpart 3 [Removed and Reserved]

Under the authority of 51 U.S.C. 20113(a), subpart 3, consisting of §§ 1204.300 through 1204.313, is removed and reserved.

Nanette Smith,
Team Lead, NASA Directives and Regulations.

[FR Doc. 2021-16772 Filed 8-6-21; 8:45 am]

BILLING CODE 7510-13-P